ENVIRONMENTAL PROTECTION AGENCY

40 CFR Parts 174 and 180

[EPA-HQ-OPP-2021-0088; FRL-8792-03-OCSPP]

Receipt of Pesticide Petitions Filed for Residues of Pesticide Chemicals in or on Various Commodities (September 2021)

AGENCY: Environmental Protection Agency (EPA).

ACTION: Notices of filing of petitions and request for comment.

SUMMARY: This document announces the Agency's receipt of initial filings of pesticide petitions requesting the establishment or modification of regulations for residues of pesticide chemicals in or on various commodities.

DATES: Comments must be received on or before October 22, 2021.

ADDRESSES: Submit your comments, identified by docket identification (ID) number and the pesticide petition (PP) of interest as shown in the body of this document, using the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Marietta Echeverria, Registration Division (7505P), main telephone number: (703) 305-7090, email address: RDFRNotices@epa.gov; or Charles Smith, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Amended Tolerance Exemptions for Non-Inerts (Except PIPS)

PP 0F8892. (EPA-HQ-OPP-2021-0551). The Lubrizol Corporation, 29400 Lakeland Blvd., Wickliffe, OH 44092, requests to amend an exemption from the requirement of a tolerance in 40 CFR 180.1327 to include residues of the bactericide, fungicide, insecticide, and miticide tetraacetylethylenediamine (TAED) in or on all raw agricultural commodities. The analytical method Warwick International, Ltd.'s QC Method SOP No. 1631 is available to EPA for the detection and measurement of the pesticide residues. Contact: BPPD.

B. Amended Tolerances for Non-Inerts

1. PP 1E8919. (EPA-HQ-OPP-2021-0446). Interregional Research Project No. 4 (IR-4), Project Headquarters, Rutgers, The State University of NJ, 500 College Road East, Suite 201 W, Princeton, NJ 08540, requests to amend 40 CFR part 180 by removing the established tolerance for residues of pydiflumetofen, including its metabolites and degradates, in or on vegetable, fruiting, group 8-10 at 0.6 parts per million (ppm). Contact: RD.

2. PP 1E8932. (EPA-HQ-OPP-2021-0449). Interregional Research Project Number 4 (IR-4), Project Headquarters, Rutgers, The State University of New Jersey, 500 College Road East, Suite 201 W, Princeton, NJ 08450, requests to amend 40 CFR part 180 by removing the established tolerances for residues of fluopyram, including its metabolites and degradates in or on bean, dry at 0.70 ppm; brassica, head and stem, subgroup 5A at 4.0 ppm; brassica, leafy greens, subgroup 5B at 50 ppm; dill, seed at 70 ppm; leafy greens subgroup 4A at 40 ppm; leafy petioles subgroup 4B at 20 ppm; pea and bean, succulent shelled, subgroup 6B at 0.20 ppm; and vegetable, legume, edible podded, subgroup 6A at 4.0 ppm. Contact: RD.

C. New Tolerance Exemptions for Inerts (Except PIPS)

PP IN-11268. (EPA-HQ-OPP-2021-0582). SciReg, Inc., 12733 Director's Loop, Woodbridge, VA 22192, on behalf of Albaugh, LLC, P.O. Box 2127, Valdosta, GA 31604, requests to establish an exemption from the requirement of a tolerance for residues of cocamidopropylamine oxide (CAS Reg. No. 68155-09-9) when used as a pesticide inert ingredient (surfactant) in glyphosate formulations under 40 CFR 180.910 at a concentration not to exceed 6% (w/w). The petitioner believes no analytical method is needed because it is not required for an exemption from the requirement of a tolerance. Contact: RD.

D. New Tolerance Exemptions for Non-Inerts (Except PIPS)

1. PP 0F8841. (EPA-HQ-OPP-2021-0139). Lesaffre Yeast Corporation, 7475 West Main St., Milwaukee, WI 53214, requests to establish an exemption from the requirement of a tolerance in 40 CFR part 180 for residues of the fungicide and bactericide Saccharomyces cerevisiae strain LAS02 in or on all food commodities. The petitioner believes no analytical method is needed because it is seeking to establish a tolerance exemption for pesticide chemical residues; therefore, an analytical method is not required. Additionally, the petitioner believes toxicological data and public literature discussed in the tolerance exemption petition summary are sufficient to show that there are no foreseeable human or domestic health hazards likely to arise from the use of the product to control postharvest diseases on crops in the greenhouse and in the field. Contact: BPPD.

2. PP 0F8852. (EPA-HQ-OPP-2021-0534). Symborg, Inc., P.O. Box 12810, San Luis Obispo, CA 93406, requests to establish an exemption from the requirement of a tolerance in 40 CFR part 180 for residues of the fungicide Trichoderma harzianum strain T78 in or on all agricultural commodities. The petitioner believes no analytical method is needed because it is not applicable in this situation. When used as proposed, the petitioner expects that applications of Trichoderma harzianum strain T78 would not result in residues that are of toxicological concern. Contact: BPPD.

3. PP 0F8856. (EPA-HQ-OPP-2021-0470). Loveland Products, Inc., P.O. Box 1286, Greeley, CO 80632-1286, requests to establish an exemption from the requirement of a tolerance in 40 CFR part 180 for residues of the plant regulator salicylic acid (2-hydroxybenzoic acid) in or on all raw agricultural commodities. The petitioner believes no analytical method is needed because salicylic acid and salicylic acid-related compounds such as methyl salicylate occur naturally in all plant-derived food or feed items. Methyl salicylate, the main component of oil of wintergreen, is widely used as a food-flavoring agent and contributes to food residues of salicylic acid and salicylic acid-related compounds in foods. Salicylic acid end-use products will be used at low use rates (0.01 to 0.054 lb AI/A) and, given the proposed use patterns, residues on raw agricultural commodities at the time of harvest are not expected to be significantly greater than the natural background levels of salicylic acid. Based on the multiple sources of salicylic acid and the inability to determine the source of salicylic acid in food crops as natural or from use of salicylic acid end-use products, Loveland Products, Inc. believes that an analytical method for salicylic acid in foods is not necessary to protect the public health or the environment. Contact: BPPD.

4. PP 0F8886. (EPA-HQ-OPP-2021-0401). Indigo Ag, Inc., 500 Rutherford Ave., Boston, MA 02129, requests to establish an exemption from the requirement of a tolerance in 40 CFR part 180 for residues of the nematode suppression agent Streptomyces sp. strain SYM00257 in or on all food commodities. The petitioner believes no analytical method is needed because, based on the metabolic profiling it has performed, no metabolites of concern are produced by Streptomyces sp. strain SYM00257. Contact: BPPD.

5. PP 1F8903. (EPA-HQ-OPP-2021-0571). NewLeaf Symbiotics, 1005 North Warson Rd., Suite 102, St. Louis, MO 63132, requests to establish an exemption from the requirement of a tolerance in 40 CFR part 180 for residues of the insecticide Methylorubrum extorquens strain NLS0042 in or on all food commodities. The petitioner believes no analytical method is needed because an exemption from the requirement of a tolerance is being proposed. Contact: BPPD.

6. PP 1F8907. (EPA-HQ-OPP-2021-0519). OmniLytics, Inc., 9075 South Sandy Parkway, Sandy, UT 84070, requests to establish an exemption from the requirement of a tolerance in 40 CFR part 180 for residues of the bactericides bacteriophage active against Xanthomonas arboricola pv. pruni, bacteriophage active against Xanthomonas arboricola pv. juglandis, bacteriophage active against Xanthomonas arboricola pv. corylina, and bacteriophage active against Pseudomonas syringae pv. syringae in or on all food commodities. The petitioner believes no analytical method is needed because an exemption from the required tolerance is being proposed. Contact: BPPD.

E. New Tolerances for Non-Inerts

1. PP 1E8919. (EPA-HQ-OPP-2021-0446). Interregional Research Project Number 4 (IR-4), Project Headquarters, Rutgers, The State University of New Jersey, 500 College Road East, Suite 201 W, Princeton, NJ 08450, requests to establish tolerances in 40 CFR 180.699 for residues of the fungicide, Pydiflumetofen, (3-(difluoromethyl)-N-methoxy-1-methyl-N-[1-methyl-2-(2,4,6-trichlorophenyl)ethyl]-1H-pyrazole-4-carboxamide) in or on Caneberry subgroup 13-07A at 4 ppm and vegetable, fruiting, group 8-10 at 0.8 ppm. Analytical methods AG-626 and AG-454A are used to measure and evaluate the chemical. Contact: RD.

2. PP 1E8926. (EPA-HQ-OPP-2021-0447). The Interregional Research Project No. 4 (IR-4), Project Headquarters, Rutgers, The State University of New Jersey, 500 College Road East, Suite 201W. Princeton, NJ 08540, requests to establish tolerances in 40 CFR part 180.478 for residues of the herbicide rimsulfuron, N-[[(4,6-dimethoxy-2-pyrimidinyl)amino] carbonyl]-3-(ethylsulfonyl)-2-pyridinesulfonamide in or on pomegranate at 0.01 ppm; and tropical and subtropical, small fruit, edible peel subgroup 23A at 0.01 ppm. The high-pressure liquid chromatography with ESI-MS/MS detection is used to measure and evaluate the chemical. Contact: RD.

3. PP 1E8932. (EPA-HQ-OPP-2021-0449). Interregional Research Project Number 4 (IR-4), Project Headquarters, Rutgers, The State University of New Jersey, 500 College Road East, Suite 201 W, Princetown, NJ 08450, requests to establish tolerances in 40 CFR 180.661 for residues of the fungicide, fluopyram, (N-[2-[3-chloro-5-(trifluoromethyl)-2-pyridinyl]ethyl]-2-(trifluoromethyl)benzamide), including its metabolites and degradates in or on the following raw agricultural commodities: Brassica, leafy greens, subgroup 4-16B at 50 ppm; celtuce at 20 ppm; coffee, green bean at 0.03 ppm; fennel, Florence, fresh leaves and stalk at 20 ppm; kohlrabi at 4 ppm; leafy greens subgroup 4-16A at 40 ppm; leaf petiole vegetable subgroup 22B at 20 ppm; papaya at 1.5 ppm; peppermint, dried leaves at 0.8 ppm; peppermint, fresh leaves at 0.6 ppm; spearmint, dried leaves at 0.8 ppm; spearmint, fresh leaves at 0.6 ppm; spice group 26 at 70 ppm; and vegetable, brassica, head and stem, group 5-16 at 4 ppm; individual commodities of proposed crop subgroup 6-18A; edible podded bean legume vegetable subgroup at 4 ppm including: Asparagus bean, edible podded; catjang bean, edible podded; Chinese longbean, edible podded; cowpea, edible podded; French bean, edible podded; garden bean, edible podded; goa bean, edible podded; green bean, edible podded; guar bean, edible podded; jackbean, edible podded; kidney bean, edible podded; lablab bean, edible podded; moth bean, edible podded; mung bean, edible podded; navy bean, edible podded; rice bean, edible podded; scarlet runner bean, edible podded; snap bean, edible podded; sword bean, edible podded; urd bean, edible podded; vegetable soybean, edible podded; velvet bean, edible podded; wax bean, edible podded; winged pea, edible podded; and yardlong bean, edible podded; individual commodities of proposed crop subgroup 6-18B; edible podded pea legume vegetable subgroup at 4 ppm including: Chickpea, edible podded; dwarf pea, edible podded; edible podded pea; grass-pea, edible podded; green pea, edible podded; lentil, edible podded; pigeon pea, edible podded; snap pea, edible podded; snow pea, edible podded; and sugar snap pea, edible podded; individual commodities of proposed crop subgroup 6-18C: Succulent shelled bean subgroup at 0.2 ppm including: Andean lupin, succulent shelled; blackeyed pea, succulent shelled; blue lupin, succulent shelled; broad bean, succulent shelled; catjang bean, succulent shelled; cowpea, succulent shelled; crowder pea, succulent shelled; goa bean, succulent shelled; grain lupin, succulent shelled; jackbean, succulent shelled; lablab bean, succulent shelled; lima bean, succulent shelled; moth bean, succulent shelled; scarlet runner bean, succulent shelled; southern pea, succulent shelled; sweet lupin, succulent shelled; vegetable soybean, succulent shelled; velvet bean, succulent shelled; wax bean, succulent shelled; white lupin, succulent shelled; white sweet lupin, succulent shelled; and yellow lupin, succulent shelled; individual commodities of proposed crop subgroup 6-18D: Succulent shelled pea subgroup at 0.2 ppm including: Chickpea, succulent shelled; English pea, succulent shelled; garden pea, succulent shelled; green pea, succulent shelled; lentil, succulent shelled; and pigeon pea, succulent shelled; and individual commodities of proposed crop subgroup 6-18E: Dried shelled bean, except soybean, subgroup at 0.7 ppm including: Adzuki bean, dry seed; African yam-bean, dry seed; American potato bean, dry seed; Andean lupin bean, dry seed; asparagus bean, dry seed; black bean, dry seed; blackeyed pea, dry seed; blue lupin bean, dry seed; broad bean, dry seed; catjang bean, dry seed; Chinese longbean, dry seed; cowpea, dry seed; cranberry bean, dry seed; crowder pea, dry seed; dry bean, dry seed; field bean, dry seed; French bean, dry seed; garden bean, dry seed; goa bean, dry seed; grain lupin bean, dry seed; great northern bean, dry seed; green bean, dry seed; guar bean, dry seed; horse gram, dry seed; jackbean, dry seed; kidney bean, dry seed; lablab bean, dry seed; lima bean, dry seed; morama bean, dry seed; moth bean, dry seed; mung bean, dry seed; navy bean, dry seed; pink bean, dry seed; pinto bean, dry seed; red bean, dry seed; rice bean, dry seed; scarlet runner bean, dry seed; southern pea, dry seed; sweet lupin bean, dry seed; sword bean, dry seed; tepary bean, dry seed; urd bean, dry seed; vegetable soybean, dry seed; velvet bean, seed, dry seed; white lupin bean, dry seed; white sweet lupin bean, dry seed; winged pea, dry seed; yardlong bean, dry seed; yellow bean, dry seed; and yellow lupin bean, dry seed. The multiresidue method (DFG Method S19) is the method used to measure and evaluate the residues of fluopyram. Contact: RD.

4. PP 1F8914. (EPA-HQ-OPP-2021-0417). Syngenta Crop Protection, LLC, P.O. Box 18300 Greensboro, NC 27419-8300, requests to establish a tolerance in 40 CFR part 180 for residues of the fungicide, benzovindiflupyr in or on vegetable, root, except sugar beet, subgroup 1B, except ginseng at 0.4 ppm. The analytical methods GRM042.03A, GRM042.04A, and GRM042.08A are used to measure and evaluate the chemical benzovindiflupyr and its metabolites. Contact: RD.

5. PP 9E8819. (EPA-HQ-OPP-2020-0050). Bayer CropScience LP, 800 N. Lindbergh Blvd., St. Louis, MO 263167 requests to establish a tolerance in 40 CFR part 180.589 for residues of the fungicide propamocarb hydrochloride in or on Onion, bulb, Crop subgroup 3-07A at 2 ppm, leek at 30 ppm, and kale at 20 ppm. Analytical methods gas/liquid chromatography and N-FID or MSD are used to measure anc evaluate the chemical propamocarb hydrochloride. Contact: RD.

Authority: 21 U.S.C. 346a.

Dated: September 13, 2021.
Delores Barber,
Director, Information Technology and Resources Management Division, Office of Program Support.

[FR Doc. 2021-20431 Filed 9-21-21; 8:45 am]

BILLING CODE 6560-50-P